DEPARTMENT OF VETERANS AFFAIRS

[OMB Control No. 2900-0605]

Proposed Information Collection (Removal of Requirement to File Direct-Pay Fee Agreements with the Office of the General Counsel)

AGENCY: Department of Veterans Affairs.

ACTION: Notice.

SUMMARY: The Office of the General Counsel (OGC), Department of Veterans Affairs (VA), is announcing an opportunity for public comment on the modification of a collection of certain information by the agency. Under the Paperwork Reduction Act of 1995, Federal agencies are required to publish notice in the Federal Register concerning each modification of a collection of information, including each proposed revision of a currently approved collection, and allow 60 days for public comment in response to the notice. This notice solicits comments on the removal of the requirement that direct-pay fee agreements be filed with both the agency of original jurisdiction (AOJ) and OGC. Direct-pay fee agreements would only be filed with the AOJ.

DATES: Comments must be received on or before April 11, 2014.

ADDRESSES: Submit written comments on the collection of information through the Federal Docket Management System (FDMS) at www.Regulations.gov or to Dana Raffaelli (022O), Office of the General Counsel, U.S. Department of Veterans Affairs, 810 Vermont Ave., NW., Washington, DC 20420. Please refer to “OMB Control No. 2900-0605” in any correspondence. During the comment period, comments may be viewed online through FDMS.

FOR FURTHER INFORMATION CONTACT: Dana Raffaelli at (202) 461-7699 or FAX (202) 273-6404. These are not toll-free numbers.

SUPPLEMENTARY INFORMATION:

Title: Filing of Representatives' Fee Agreements.

OMB Control Number: 2900-0605

Type of Review: Revision of a currently approved collection.

Abstracts:

a. Summary of collection of information: Accredited agents and attorneys are required to file with the Secretary of Veterans Affairs agreements for the payment of fees charged for representing claimants before VA. The Secretary is authorized to review these agreements either on his or her own motion or upon the request of the claimant who is a party to the agreement. 38 U.S.C. 5904(c). The purpose of the review is to determine whether the fees charged are excessive or unreasonable. Id. VA regulations delegate the authority to receive and review fee agreements to OGC. 38 CFR 14.636. Subject to certain limitations, attorneys and agents may enter into agreements with claimants that direct VA to withhold representation fees from any past-due benefits VA awards to the claimant and pay the fee directly to the agent or attorney. 38 U.S.C. 5904(d). To process direct payments, VA requires filing a copy of a fee agreement with the local VA regional office where award payments are processed, i.e., the AOJ. 38 CFR 14.636(h)(4). VA is amending § 14.636(g)(3) and (h)(4) to remove the requirement that an agent or attorney file a direct-pay fee agreement with both OGC and the AOJ. The intended effect of this amendment is to require that direct-pay fee agreements be submitted only to the AOJ, thereby eliminating duplicate filings by agents and attorneys. In cases where OGC needs to review a direct-pay fee agreement, it can obtain a copy of the agreement from the AOJ.

b. Description of need for information and proposed use of information: The information is used by VA in reviewing fee agreements between VA claimants and their representatives to determine whether they are in compliance with the law governing representation and fees, and by VA regional offices in processing direct-fee payment agreements.

c. Description of likely respondents: VA-accredited agents and attorneys.

d. Estimated number of respondents: There are currently about 12,600 VA-accredited agents and attorneys. Approximately 1,200 agents and attorneys have filed fee agreements (direct and non-direct) with OGC over the past five years.

e. Estimated frequency of responses: OGC receives approximately 11,700 direct-pay fee agreements per year. Therefore, on average, each respondent files approximately 9-10 direct-pay fee agreements with OGC per year, which will be eliminated with this rulemaking.

f. Estimated average burden per response: VA estimates an average hour burden reduction of 10 minutes per response for the removal of the duplicate filing of a direct-pay fee agreement with OGC.

g. Estimated total annual reporting and recordkeeping burden: VA estimates a total annual burden reduction of 1950 hours for all respondents for the removal of the duplicate filing of a direct-pay fee agreement with OGC.

Dated: February 5, 2014.
By direction of the Secretary:
Crystal Rennie,
VA Clearance Officer, Department of Veterans Affairs.

[FR Doc. 2014-02798 Filed 2-7-14; 8:45 am]

BILLING CODE 8320-01-P